DEPARTMENT OF THE INTERIOR

Bureau of Land Management

[ID-076-1430-ES-IDI-33109]

Notice of Realty Action, Recreation and Public Purposes (R&PP) Act Classification; ID

AGENCY: Bureau of Land Management, Interior.

ACTION: Notice of Realty Action; Recreation and Public Purposes (R&PP) Act Classification; Idaho.

SUMMARY: The following public lands near the community of Shoshone, Lincoln County, Idaho have been examined and found suitable for classification for lease or conveyance to Lincoln County Sheriff's Department, Idaho under the provisions of the Recreation and Public Purposes Act, as amended (43 U.S.C. 869 et seq.). The Lincoln County Sheriff's Department proposes to use the lands for a public shooting range, special weapon training, and a building entry/high-risk vehicle training area.

Boise Meridian

T. 6 S., R. 17 E.,

Sec. 12, W2NWNW (portion of Lot 4).

Containing 20 acres more or less.

The lands are not needed for Federal purposes. Lease or conveyance is consistent with current BLM land use planning and would be in the public interest. The lease/patent, when issued, will be subject to the following terms, conditions and reservations:

1. Provisions of the Recreation and Public Purposes Act and to all applicable regulations of the Secretary of the Interior.

2. A right-of-way for ditches and canals constructed by the authority of the United States.

3. Any other reservations that the authorized officer determines appropriate to ensure public access and proper management of Federal lands and interests therein.

SUPPLEMENTARY INFORMATION: Upon publication of this notice in the Federal Register, the lands will be segregated from all other forms of appropriation under the public land laws, including the general mining laws, except for lease or conveyance under the Recreation and Public Purposes Act and leasing under the mineral leasing laws. For a period of 45 days from the date of publication of this notice in the Federal Register, interested persons may submit comments regarding the proposed lease/conveyance or classification of the lands to the District Manager; Upper Snake River District, 1405 Hollipark Drive, Idaho Falls, Idaho 83401-2100. Detailed information concerning this action is available for review at the office of the Bureau of Land Management, Upper Snake River District, Shoshone Field Office, and 400 West F Street, Shoshone, Idaho 83352.

Classification Comments: Interested parties may submit comments involving the suitability of the land for a shooting range, special weapon training, and building entry and high-risk vehicle training area. Comments on the classification are restricted to whether the land is physically suited for the proposal, whether the use will maximize the future use or uses of the land, whether the use is consistent with local planning and zoning, or if the use is consistent with State and Federal programs.

Application Comments: Interested parties may also submit comments regarding the specific use proposed in the application and plan of development, whether the BLM followed proper administrative procedures in reaching the decision, or any other factor not directly related to the suitability of the land for a shooting range, special weapon training, and building entry and high-risk vehicle training area.

The State Director will review any adverse comments. In the absence of any adverse comments, the classification will become effective 60 days from the date of publication of this notice in the Federal Register.

FOR FURTHER INFORMATION CONTACT: The BLM Shoshone Field Office, 400 West F Street, Shoshone, ID 83352.

Dated: April 1, 2003.
James E. May,
District Manager.

[FR Doc. 03-12520 Filed 5-19-03; 8:45 am]

BILLING CODE 4310-GG-P